LIBRARY OF CONGRESS

U.S. Copyright Office

37 CFR Part 204

[Docket No. 2016-5]

Copyright Office Technical Amendments

AGENCY: U.S. Copyright Office, Library of Congress.

ACTION: Partial withdrawal of final rule.

SUMMARY: This document withdraws a portion of the final rule that would revise the Office's Privacy Act regulations, because that section will have already been amended in a separate document by the time this rule is effective.

DATES: Effective March 1, 2017, the Copyright Office withdraws the amendments to 37 CFR 204.7 published at 82 FR 9364, on February 6, 2017.

FOR FURTHER INFORMATION CONTACT: Sarang V. Damle, General Counsel and Associate Register of Copyrights, sdam@loc.gov; Regan A. Smith, Deputy General Counsel, resm@loc.gov; or Erik Bertin, Deputy Director of Registration Policy and Practice, ebertin@loc.gov. Each person can be reached by telephone at 202-707-8040.

SUPPLEMENTARY INFORMATION: On February 2, 2017, the Office published a final rule creating procedures for the replacement or removal of certain “personally identifiable information” (“PII”) from the Office's registration records. 82 FR 9004 (Feb. 2, 2017) (“PII Final Rule”). Among other things, the PII Final Rule rewrites 37 CFR 204.7. On February 6, 2017, the Office published a final rule that made several technical amendments to the regulations governing registration, recordation, licensing, and other services that the Office provides. 82 FR 9354 (Feb. 6, 2017) (“Technical Amendments Final Rule”). In that final rule, the Office made amendments to § 204.7 of its regulations. The amendments to § 204.7 in the Technical Amendments Final Rule were based on an earlier version of the section, and did not take into account the section as rewritten by the PII Final Rule. The PII Final Rule is scheduled to go into effect on March 6, 2017 and the Technical Amendments Final Rule goes into effect on March 8, 2017.

Thus, the Copyright Office is withdrawing the revisions to 37 CFR 204.7. The other revisions in the Technical Amendments Final Rule are not affected and will become effective on March 8, 2017, as provided in the final rule.

Dated: February 16, 2017.
Karyn Temple Claggett,
Acting Register of Copyrights and Director of the U.S. Copyright Office.
Approved by:
Carla D. Hayden,
Librarian of Congress.

Accordingly, amendatory instruction 55 in the final rule published in the Federal Register on February 6, 2017, at 82 FR 9364, is withdrawn as of March 1, 2017.

[FR Doc. 2017-03946 Filed 2-28-17; 8:45 am]

BILLING CODE 1410-30-P